FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

A.G. Cargo Import, Inc. (NVO & OFF), 350 North Sam Houston Pkwy. East, Suite 203, Houston, TX 77060; Officers: Justiniano J. Nunez, CEO (QI), Artemisia Vargo, Secretary, Application Type: New NVO & OFF License.

Aduamerica USA Corp. (NVO & OFF), 14944 SW 132 Avenue, Miami, FL 33186; Officer: David M. Gonzalez, CEO (QI), Application Type: New NVO & OFF License.

AMC Freight Forwarder Corp. (NVO & OFF), 2511 Pan Am Blvd., Elk Grove Village, IL 60007; Officers: Buyanbat Altangerel, President (QI), Rodger Wesolowski, Secretary, Application Type: New NVO & OFF License.

AMPAC Freight System, Inc (NVO), 19105 Santa Maria Avenue, Castro Valley, CA 94546; Officer: Pei-Ling (aka Peggy) Wen, President (QI), Application Type: New NVO License.

Anselm K. Nwankwo dba Anze Global Logistics (NVO & OFF), 45 Harrison Street, Suite A, Roslindale, MA 02131; Officer: Anselm K. Nwankwo, President (QI), Application Type: Business Structure Change to Anze Global Logistics & Shipping Inc.

Ark Shipping Line Limited Liability Company (NVO & OFF), 239 Albert Street, North Plainfield, NJ 07063; Officer: Fawwad Mohammad, Chief Executive Manager (QI), Application Type: Add OFF Service.

Bosgen Inc. (NVO & OFF), 16 Prescott Street, Suite 300, Wellesley, MA 02481; Officers: Jianfan Wang, President (QI), Jie Bai, Treasurer, Application Type: New NVO & OFF License.

Direct Global Shipping LLC (NVO & OFF), 10891 NW 34th Place, Coral Springs, FL 33065; Officer: Sean J. Alford, Member (QI), Application Type: New NVO & OFF License.

Global Voyage, LLC (OFF), 2567 North Forsyth Road, Orlando, FL 32807; Officers: Jocelyn C. Kassem, Manager/Member (QI), Bassel Kassem, Manager/Member, Application Type: New OFF License.

Intorvolca Logistic, LLC. (OFF), 11890 SW 8th Street, Penthouse 3 A-B, Miami, FL 33184; Officer: Javier A. Volcanes, Manager/Member (QI), Application Type: New OFF License.

Intransia World Wise Logistics Inc. (NVO), 2240 Palm Beach Lakes Blvd., Suite 300, West Palm Beach, FL 33409; Officer: Mehmet O. Elbir, President (QI), Application Type: New NVO License.

ISS Palumbo Houston LLC (OFF), 3340-B Greens Road, Suite B900, Houston, TX 77032; Officers: Ian Sanders-Park, Vice President of Operations, Filippo Palumbo, Manager/President, Application Type: New OFF License.

LavinStar America, Inc. (NVO & OFF), 485-C Route 1 South, Building C, Suite 130, Iselin, NJ 08830; Officers: Tervin M. Aranha, Executive Vice President (QI), Martin J. Aranha, President, Application Type: QI Change.

Maceachern Energy, LLC (OFF), 400 Clematis Street, Suite 207, West Palm Beach, FL 33401; Officers: Christina MacEachern, Managing Member (QI), Christopher C. MacEachern, Managing Member, Application Type: New OFF License.

Marine Transport International USA LLC (NVO & OFF), 50 Harrison Street, Suite PH 441, Hoboken, NJ 07030; Officers: Carmella M. DePrimo, Manager (QI), Jody L. Cleworth, Member, Application Type: New NVO & OFF License.

Nigel Williams dba Caribbean Imports & Exports Services Ltd. (NVO & OFF), 1424 W. 24th Street, Houston, TX 77008; Officers: Nigel Williams, Sole Proprietor (QI), Application Type: New NVO & OFF License.

Janette Marlowe and Kathleen Smith dba Planet Shippers dba Project, Cargo USA Ltd (NVO & OFF), 11110 Bellaire Blvd., Second Floor, Suite 213, Houston, TX 77072; Officers: Kathleen P. Smith, Partner (QI), Janette M. Marlowe, Partner, Application Type: New NVO & OFF License.

By the Commission.
Dated: October 9, 2014.
Karen V. Gregory,
Secretary.

Pursuant to the Commission's direct rule (79 FR 56522), beginning October 20, 2014, these notices will no longer be posted in the Federal Register. After October 20, 2014, this information will be available on the Commission's Web site at http:/www.fmc.gov, see OTI Licensing Updates.

[FR Doc. 2014-24692 Filed 10-16-14; 8:45 am]

BILLING CODE 6730-01-P